DEPARTMENT OF JUSTICE

Notice of Lodging of Proposed Interim Partial Consent Decree Under the Clean Water Act

On October 31, 2022, the Department of Justice lodged a proposed Interim Partial Consent Decree with the United States District Court for the Northern District of Ohio, Western Division, in the lawsuit entitled United States of America and the State of Ohio v. City of Lakewood, Ohio, Civil Action No. 1:22-cv-01964.

The United States and the State of Ohio filed this lawsuit under the Clean Water Act against the City of Lakewood, Ohio. The complaint seeks injunctive relief and civil penalties for violations of the regulations that govern discharges of pollutants to waters of the United States. The Complaint alleges that on numerous occasions since January 2016, Lakewood has: (1) discharged untreated sanitary sewage into nearby waterbodies in violation of the Clean Water Act; and (2) discharged effluent from combined sewer overflow outfalls in violation of its permit.

The United States and the State of Ohio reached agreement with Lakewood on an Interim Partial Consent Decree, which will partially resolve the claims in the complaint. It will resolve all civil penalty claims, but will not fully resolve the injunctive relief claims alleged in the complaint. The Decree requires Lakewood to undertake several projects to greatly reduce discharges of untreated sanitary sewage into Lake Erie and the Rocky River. Lakewood will then be required to submit an updated plan to reduce discharges of sanitary sewage in the remainder of Lakewood's sewer system. Lakewood will ultimately be required to implement its updated plan through a subsequent, enforceable agreement with the United States and the State of Ohio and demonstrate compliance with the Clean Water Act, which will fully resolve all of the injunctive relief claims in the complaint. Lakewood will pay a civil penalty of $100,000, split evenly between the United States and the State. The State joins in the proposed Decree.

The publication of this notice opens a period for public comment on the consent decree. Comments should be addressed to the Assistant Attorney General, Environment and Natural Resources Division, and should refer to United States and the State of Ohio v. City of Lakewood, Ohio, D.J. Ref. No. 90-5-1-1-08725/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $18.75 (25 cents per page reproduction cost) payable to the United States Treasury.

Patricia McKenna,
Assistant Section Chief, Environmental Enforcement Section, Environment and Natural Resources Division.

[FR Doc. 2022-24327 Filed 11-7-22; 8:45 am]

BILLING CODE 4410-15-P